COMMISSION ON CIVIL RIGHTS

Agenda and Notice of Public Meeting of the New Jersey Advisory Committee

AGENCY: Commission on Civil Rights.

ACTION: Announcement of meetings.

SUMMARY: Notice is hereby given, pursuant to the provisions of the rules and regulations of the U.S. Commission on Civil Rights (Commission), and the Federal Advisory Committee Act (FACA), that three meetings of the New Jersey Advisory Committee to the Commission will each convene by conference call. The first will be the committee's monthly meeting to be held on Friday, September 18, 2020 at 1:00 p.m. (ET) for planning purposes. Second, the committee will convene a briefing on Monday, September 21, 2020 at 3:00 p.m. (ET) to hear from national experts on the collateral consequences that a criminal record has criminal asset forfeiture. Third, the committee will convene a briefing on Thursday, September 24 at 1:00 p.m. (ET) to hear from national experts on the collateral consequences that a criminal record has on access to occupational licensing and other related matters. Each briefing will run for approximately 90 minutes and immediately following each briefing the phone line will be opened, so that interested members of the public can make brief statements about each briefing topic.

DATES: Friday, September 18, 2020 at 1:00 p.m. (ET); Monday, September 21, 2020 at 3:00 p.m. (ET); and Thursday, September 24, 2020 at 1:00 p.m. (ET).

Public Call-In Information For Each Date Is As Follows: Conference call number: 1-800-667-5617 and conference call ID number: 7386659.

FOR FURTHER INFORMATION CONTACT: Ivy L. Davis, at ero@usccr.gov or by phone at 202-376-7533.

SUPPLEMENTARY INFORMATION: Interested members of the public may listen to the discussion by calling the following toll-free conference call number: 1-800-667-5617 and conference call ID number: 7386659. Please be advised that before placing them into the conference calls, the conference call operator may ask callers to provide their names, their organizational affiliations (if any), and email addresses (so that callers may be notified of future meetings). Callers can expect to incur charges for calls they initiate over wireless lines, and the Commission will not refund any incurred charges. Callers will incur no charge for calls they initiate over land-line connections to the toll-free telephone number herein.

Persons with hearing impairments may also follow the discussion by first calling the Federal Relay Service at 1-800-877-8339 and providing the operator with the toll-free conference call number: 1-800-667-5617 and conference call ID number: 7386659.

Members of the public are invited to make brief statements during the Public Comment section of each meeting or to submit written comments. The comments must be received in the regional office approximately 30 days after each scheduled meeting via email to Ivy Davis at ero@usccr.gov. Persons who desire additional information may contact the Eastern Regional Office at (202) 376-7533.

Records and documents discussed during the meeting will be available for public viewing, as they become available at this FACA link, click the “Meeting Details” and “Documents” links. Persons interested in the work of this advisory committee are advised to go to the Commission's website, www.usccr.gov, or to contact the Eastern Regional Office at the above phone number or email address.

Agendas

I. Roll Call

II. Welcome

III. Friday, September 18, 2020. Planning meeting that starts at 1:00 p.m. (ET). Committee members will finalize plans for the September 21 and 24 briefings.

IV. Monday, September 21, 2020. Briefing on Criminal Asset Forfeiture that starts at 3:00 p.m. (ET). National experts will make openings statements and respond to questions from Committee members.

V. Thursday, September 24, 2020. Briefing on Occupational Licensing that starts at 1:00 p.m. (ET). National experts will make openings statements and respond to questions from Committee members.

VI. Public Comments. Immediately following the conclusion of each meeting.

VII. Adjourn

Dated: August 28, 2020.
David Mussatt,
Supervisory Chief, Regional Programs Unit.

[FR Doc. 2020-19462 Filed 9-2-20; 8:45 am]

BILLING CODE P